DEPARTMENT OF TRANSPORTATION

Office of the Secretary; Notice of Applications for Certificates of Public Convenience and Necessity and Foreign Air Carrier Permits Filed Under Subpart B (formerly Subpart Q) During the Week Ending February 15, 2002

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number OST-1995-477.

Date Filed February 12, 2002.

Due Date for Answers, Conforming Applications, or Motion To Modify Scope

March 5, 2002.

Description

Application of Laker Airways (Bahamas) Limited, pursuant to 49 U.S.C. Section 41302 and Subpart B, requesting an amendment and re-issuance of its foreign air carrier permit to engage in scheduled air transportation of persons, property and mail on the following Bahamas-U.S. scheduled combination routes: terminal point Nassau, Bahamas on the one hand, and the co-terminal points Tampa, FL; and, Jacksonville, FL on the other hand.

Docket Number OST-2002-11601.

Date Filed February 14, 2002.

Due Date for Answers, Conforming Applications, or Motion To Modify Scope

March 7, 2002.

Description

Application of US Airways, Inc., pursuant to 49 U.S.C. Sections 41102, 41108 and Subpart B, requesting a certificate of public convenience and necessity to engage in scheduled foreign air transportation of persons, property, and mail between any point or points in the United States and any point or points in France and its territories, either directly or via intermediate points, and beyond France to any point or points in third countries to the full extent authorized by the new open skies bilateral agreement.

Cynthia L. Hatten,
Federal Register Liaison.

[FR Doc. 02-5409 Filed 3-6-02; 8:45 am]

BILLING CODE 4910-62-P